DEPARTMENT OF TRANSPORTATION

Pipeline and Hazardous Materials Safety Administration

[Docket ID PHMSA-97-2995]

Pipeline Safety: Random Drug Testing Rate

AGENCY: Pipeline and Hazardous Materials Safety Administration (PHMSA), DOT.

ACTION: Notice of minimum annual percentage rate for random drug testing.

SUMMARY: PHMSA has determined that the minimum random drug testing rate for covered employees will remain at 25 percent during calendar year 2008.

DATES: Effective January 1, 2008, through December 31, 2008.

FOR FURTHER INFORMATION CONTACT: Stanley Kastanas, Director, Drug and Alcohol Policy and Investigations, PHMSA, U.S. Department of Transportation, telephone (202) 550-0629 or e-mail Stanley.kastanas@dot.gov.

SUPPLEMENTARY INFORMATION: Operators of gas, hazardous liquid, and carbon dioxide pipelines and operators of liquefied natural gas facilities must select and test a percentage of covered employees for random drug testing.

Pursuant to 49 CFR 199.105(c)(2), (3), and (4), the PHMSA Administrator's decision on whether to change the minimum annual random drug testing rate is based on the reported random drug test positive rate for the pipeline industry. The data considered by the Administrator comes from operators' annual submissions of Management Information System (MIS) reports required by 49 CFR199.119(a). If the reported random drug test positive rate is less than one percent, the Administrator may continue the minimum random drug testing rate at 25 percent. In 2006, the random drug test positive rate was less than one percent. Therefore, the minimum random drug testing rate will remain at 25 percent for calendar year 2008.

In reference to the notice published in 70 FR 20800, PHMSA intends to publish an Advisory Bulletin specifying the methodology for reporting calendar year 2007 MIS contractor data to PHMSA. Therefore, operators must ensure records on contract employees continue to be maintained in calendar year 2008.

Authority: 49 U.S.C. 5103, 60102, 60104, 60108, 60117, and 60118; 49 CFR 1.53.

Issued in Washington, DC on December 19, 2007.
Jeffrey D. Wiese,
Associate Administrator for Pipeline Safety.

[FR Doc. E7-25136 Filed 12-27-07; 8:45 am]

BILLING CODE 4920-60-P